DEPARTMENT OF THE INTERIOR

Bureau of Land Management

[LLWO310000 L13100000.PP0000]

Extension of Approval of Information Collection, OMB Control Number 1004-0137

AGENCY: Bureau of Land Management, Interior.

ACTION: 60-Day Notice and Request for Comments.

SUMMARY: In compliance with the Paperwork Reduction Act of 1995, the Bureau of Land Management (BLM) is announcing its intention to request approval to continue the collection of information from those who wish to participate in the exploration, development, production, and utilization of oil and gas operations on BLM-managed public lands. This information collection activity was previously approved by the Office of Management and Budget (OMB), and was assigned control number 1004-0137.

DATES: Comments on the proposed information collection must be received by April 5, 2010, to be assured of consideration.

ADDRESSES: Comments may be mailed to U.S. Department of the Interior, Bureau of Land Management, Mail Stop 401-LS, 1849 C St., NW., Washington, DC 20240. Comments may also be submitted electronically to Jean_Sonneman@blm.gov. Please attach “Attn: 1004-0019” to either form of comment.

FOR FURTHER INFORMATION CONTACT: To receive a copy of the information collection request, contact Barbara Gamble, Division of Fluid Minerals, at 202-912-7148 (Commercial or FTS). Persons who use a telecommunication device for the deaf (TDD) may call the Federal Information Relay Service (FIRS) at 1-800-877-8339, to leave a message for Ms. Gamble.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8(d) and 1320.12(a)). This notice identifies an information collection that the BLM will be submitting to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, telephone number, e-mail address, or other personal identifying information in your comment, be advised that your entire comment—including your personal identifying information—may be made publicly available at any time. While you can ask in your comment to withhold from public review your personal identifying information, we cannot guarantee that we will be able to do so.

The following information is provided for the information collection:

Title: Onshore Oil and Gas Operations (43 CFR part 3160).

Forms:

• Form 3160-3, Application for Permit to Drill or Re-enter;

• Form 3160-4, Well Completion or Recompletion Report and Log;

• Form 3160-5, Sundry Notices and Reports on Wells; and

• Form 3160-6, Monthly Report of Operations.

OMB Control Number: 1004-0137.

Abstract: Various Federal and Indian mineral leasing statutes authorize the BLM to grant and manage onshore oil and gas leases on Federal and Indian (except Osage Tribe) lands. In order to fulfill its responsibilities under these statutes, the BLM needs to perform the information collection activity set forth in the regulations at 43 CFR part 3160, and in onshore oil and gas orders promulgated in accordance with 43 CFR 3164.1.

Frequency of Collection: On occasion.

Estimated Number and Description of Respondents: Approximately 2,500 lessees and applicants for leases.

Estimated Reporting and Recordkeeping “Hour” Burden: The currently approved annual burden for this collection is 2,631,120 hours. The following chart details the individual components and respective hour burden estimates of this information collection request:

Type of response | Number of responses | Hours per response | Total hours
43 CFR 3162.3-1(a), Well-Spacing Program | 150 | 8 | 1,200
43 CFR 3162.3-1(c) and (d), Application for Permit to Drill: Form 3160-3 and related information | 5,000 | 8 | 40,000
43 CFR 3162.3-1(e), Drilling Plan | 2,875 | 16 | 46,000
43 CFR 3162.3-2 and 3162.3-3, Sundry Notices and Reports on Wells: Form 3160-5 | 34,000 | 8 | 272,000
43 CFR 3162.3-4(a), Plan to Plug and Abandon Well for Water Injection | 1,200 | 8 | 9,600
43 CFR 3162.3-4(b), Plan to Plug and Abandon Well for Water Supply Source | 1,200 | 8 | 9,600
43 CFR 3162.4-1(a) and 3162.7-5(d)(1), Schematic/Facility Diagrams | 2,350 | 8 | 18,800
43 CFR 3162.4-1(b), Well Completion or Recompletion Report and Log: Form 3160-4 | 3,000 | 8 | 24,000
43 CFR 3162.4-2(a), Drilling Tests, Logs, and Surveys | 330 | 8 | 2,640
43 CFR 3162.4-3, Monthly Report of Operations: Form 3160-6 | 90,000 | 8 | 720,000
43 CFR 3162.5-1(b), Disposal of Produced Water and 43 CFR 3164.1, Onshore Oil and Gas Order No. 7: Disposal of Produced Water | 1,500 | 8 | 12,000
43 CFR 3162.5-1(c), Report of Spills, Discharges, or Other Undesirable Events | 200 | 8 | 1,600
43 CFR 3162.5-1(d), Contingency Plan | 50 | 32 | 1,600
43 CFR 3162.5-2(b), Report of Drilling Deviating Significantly from the Vertical | 165 | 8 | 1,320
43 CFR 3162.6, Well Markers | 300 | 8 | 2,400
43 CFR 3162.7-1(b), Approval and Reporting of Oil in Pits | 520 | 8 | 4,160
43 CFR 3162.7-1(d), Additional Gas Flaring and 43 CFR 3164.2, Notice to Lessees—4A: Royalty or Compensation for Oil and Gas Lost | 400 | 8 | 3,200
43 CFR 3162.7-5(b), Records for Seals | 90,000 | 8 | 720,000
43 CFR 3162.7-5(c), Site Security Plan | 2,415 | 8 | 19,320
43 CFR 3164.1, Onshore Oil and Gas Order No. 4: Measurement of Oil | 90,000 | 8 | 720,000
43 CFR 3165.1(a), Application for Relief from Operating and/or Producing Requirements | 100 | 16 | 1,600
43 CFR 3165.3(b), Application for State Director Review | 10 | 8 | 80
Totals | 325,765 |  | 2,631,120

Jean Sonneman,
Bureau of Land Management, Acting Information Collection Clearance Officer.

[FR Doc. 2010-2301 Filed 2-2-10; 8:45 am]

BILLING CODE 4310-84-P